DEPARTMENT OF THE INTERIOR

National Park Service

Mining Access Plan of Operations, Death Valley National Park, CA

AGENCY: National Park Service, Department of the Interior.

ACTION: Notice of availability.

SUMMARY: The Department of the Interior, National Park Service (NPS) announces the availability of a Mining Access Plan of Operations. The NPS received a proposal (a mining plan of operations) from a private party, Big Pine Distributors, to use an open dirt road within Death Valley National Park for commercial mining purposes—for access and egress to an unpatented talc mine outside the park on Bureau of Land Management land. The NPS road section is 1.2 miles long. It is the only route to the mining claims.

An environmental assessment (EA) on the subject was completed. It presents the proposal and the alternatives, and it presents an analysis of their environmental impacts. The NPS announces the availability of the EA, open for public comment until August 31, 2000. The NPS is asking for comments on the EA—its accuracy, completeness, and scope. Comments will help the NPS in its permit planning, to make a better, more informed decision on this pending access permit request.

DATES: Submit comments on the environmental assessment by August 31, 2000.

ADDRESSES: Please send requests for the Plan of Operations or the EA to Richard Anderson, Environmental Specialist, Death Valley National Park, Death Valley, CA 92328, or by fax at 760-786-3258, or by email at deva_resource_management@nps.gov. The EA will be posted on the park's web page at www.nps.gov/deva (click on Resource Management and Planning).

FOR FURTHER INFORMATION CONTACT: Richard Anderson, 760-786-3251.

Richard H. Martin,
Superintendent.

[FR Doc. 00-19953 Filed 8-7-00; 8:45 am]

BILLING CODE 4310-70-P